DEPARTMENT OF TRANSPORTATION

Federal Aviation Administration

14 CFR Part 39

[Docket No. FAA-2005-22974; Directorate Identifier 2005-NM-180-AD; Amendment 39-14774; AD 2006-20-05]

RIN 2120-AA64

Airworthiness Directives; BAE Systems (Operations) Limited Model BAe 146 Airplanes

AGENCY: Federal Aviation Administration (FAA), Department of Transportation (DOT).

ACTION: Final rule.

SUMMARY: The FAA is adopting a new airworthiness directive (AD) for certain BAE Systems (Operations) Limited Model BAe 146 airplanes. This AD requires repetitive inspections to measure the depth of chafing or scoring in the skin along the full length of the wing-to-fuselage fairing from forward to aft ends at the contact between the seal and fuselage, and related investigative/corrective actions if necessary. This AD results from a report of chafing in this area. We are issuing this AD to detect and correct such chafing or scoring, which could result in reduced structural integrity of the fuselage.

DATES: This AD becomes effective November 2, 2006.

The Director of the Federal Register approved the incorporation by reference of certain publications listed in the AD as of November 2, 2006.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain BAE Systems (Operations) Limited Model BAe 146 airplanes. That supplemental NPRM was published in the Federal Register on April 5, 2006 (71 FR 17037). That supplemental NPRM proposed to require repetitive inspections to measure the depth of chafing or scoring in the skin along the full length of the wing-to-fuselage fairing from forward to aft ends at the contact between the seal and fuselage, and related investigative/corrective actions if necessary.

Comments

We provided the public the opportunity to participate in the development of this AD. We have considered the comment we received on the supplemental NPRM.

Request for Revised Compliance Time

BAE notes that corresponding British airworthiness directive G-2005-0020, dated July 6, 2005, allows an additional 4,000 flight cycles before previously inspected airplanes must be reinspected. But paragraph (f) of the supplemental NPRM would require all airplanes to be inspected before the airplane accumulates 1,000 total flight cycles, or within a grace period of 500 flight cycles, without any provision for an extended compliance time for airplanes previously inspected in accordance with both BAE Systems (Operations) Limited Inspection Service Bulletins ISB.53-005, Revision 2, dated February 16, 2005, and ISB.53-067, Revision 3, dated June 27, 2005. BAE adds that there are no airplanes in service with fewer than 1,000 total flight cycles.

We infer that the commenter requests that we revise the supplemental NPRM. We agree. We have revised paragraph (f) to allow the deferral of certain corrective actions under specific conditions outlined in the service bulletins, as provided in new paragraph (h) in this AD.

Additional Changes to Supplemental NPRM

The supplemental NPRM specified that all actions including corrective actions would be required at the times specified in BAE Systems (Operations) Limited Inspection Service Bulletins ISB.53-005 and ISB.53-067. Our intent was to match the specifications of the service bulletins, which allow deferred corrective action only under certain conditions. To clarify the required compliance times of this AD, we have added new paragraph (h) to explicitly require corrective actions before further flight, except when repair may be deferred under the specific conditions noted in the service bulletins.

Paragraph (g) of the supplemental NPRM specified making repairs using a method approved by either the FAA or the Civil Aviation Authority, which is the airworthiness authority for the United Kingdom. The European Aviation Safety Agency (EASA) has assumed responsibility for the airplane model subject to this AD. Therefore, we have revised paragraph (g) of this AD to specify making repairs using a method approved by the FAA, the CAA (or its delegated agent), or the EASA (or its delegated agent).

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs, Per Inspection Cycle
Action | Work hours | Average labor rate per hour | Parts | Cost per airplane | Number of U.S.-registered airplanes | Fleet cost
Inspection (ISB.53-005) | 2 | $65 | None | $130 | 35 | $4,550
Inspection (ISB.53-067) | 4 | 65 | None | 260 | 35 | 9,100

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-20-05 BAE Systems (Operations) Limited (Formerly British Aerospace Regional Aircraft): Amendment 39-14774. Docket No. FAA-2005-22974; Directorate Identifier 2005-NM-180-AD.

Effective Date

(a) This AD becomes effective November 2, 2006.

Affected ADs

(b) None.

Applicability

(c) This AD applies to BAE Systems (Operations) Limited Model BAe 146-100A, -200A, and -300A series airplanes, certificated in any category, on which Modification HCM00301A or B has been done, and on which Modification HCM01698A has not been done.

Unsafe Condition

(d) This AD results from a report of chafing along the seal/fuselage contact area under the wing-to-fuselage fairing access panels on both sides of the fuselage. We are issuing this AD to detect and correct such chafing or scoring in this area, which could result in reduced structural integrity of the fuselage.

Compliance

(e) You are responsible for having the actions required by this AD performed within the compliance times specified, unless the actions have already been done.

Inspection

(f) Inspect, using a dial test indicator, to measure the depth of any chafing or scoring in the skin along the full length of the wing-to-fuselage fairing from forward to aft ends at the point of contact between the seal and fuselage on both sides of the fuselage, and do applicable related investigative/corrective actions in accordance with the Accomplishment Instructions of BAE Systems (Operations) Limited Inspection Service Bulletins ISB.53-005, Revision 2, dated February 16, 2004; and ISB.53-067, Revision 3, dated June 27, 2005; except as required by paragraph (g) of this AD. Do the inspection before the airplane accumulates 1,000 total flight cycles, or within 500 flight cycles after the effective date of this AD, whichever occurs later. Do related investigative/corrective actions and repeat the inspection to measure the chafing/scoring at the times specified in the service bulletins, as applicable, except as required in paragraph (h) of this AD.

Exceptions to and Clarification of Service Bulletin Specifications

(g) Where BAE Systems (Operations) Limited Inspection Service Bulletins ISB.53-005, Revision 2, dated February 16, 2004; and ISB.53-067, Revision 3, dated June 27, 2005; specify to contact the manufacturer for repair instructions: Before further flight, repair using a method approved by the Manager, International Branch, ANM-116, Transport Airplane Directorate, FAA; the Civil Aviation Authority (or its delegated agent); or the EASA (or its delegated agent).

(h) This AD requires corrective actions before further flight, except where corrective actions may be deferred under specific conditions in BAE Systems (Operations) Limited Inspection Service Bulletins ISB.53-005, Revision 2, dated February 16, 2004; and ISB.53-067, Revision 3, dated June 27, 2005.

(i) Although BAE Systems (Operations) Limited Inspection Service Bulletins ISB.53-005, Revision 2, dated February 16, 2004; and ISB.53-067, Revision 3, dated June 27, 2005; specify to submit certain information to the manufacturer, this AD does not include that requirement.

Credit for Earlier Accomplishment

(j) Inspections and applicable investigative and corrective actions done before the effective date of this AD are acceptable for compliance with the requirements of paragraph (f) of this AD if done in accordance with one of the service bulletin versions identified in Table 1 of this AD, as applicable. The repetitive inspection may be done within 4,000 flight cycles after the most recent inspections in accordance with both BAE Systems (Operations) Limited Inspection Service Bulletins ISB.53-005 and ISB-53-067 (any revision level).

Table 1.—Credit Service Bulletins
BAE Systems (Operations) Limited Inspection Service Bulletin | Revision level | Date
ISB.53-005 | Revision 1 | April 19, 1985.
ISB.53-067 | Revision 1 | February 16, 1990.
| Revision 2 | February 16, 2004.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) British airworthiness directive G-2005-0020, dated July 6, 2005, also addresses the subject of this AD.

Material Incorporated by Reference

(m) You must use BAE Systems (Operations) Limited Inspection Service Bulletin ISB.53-005, Revision 2, dated February 16, 2004; and BAE Systems (Operations) Limited Inspection Service Bulletin ISB.53-067, Revision 3, dated June 27, 2005; to perform the actions that are required by this AD, unless the AD specifies otherwise. The Director of the Federal Register approved the incorporation by reference of these documents in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 15, 2006.
Kalene C. Yanamura,
Acting Manager, Transport Airplane Directorate, Aircraft Certification Service.

[FR Doc. 06-8231 Filed 9-27-06; 8:45 am]

BILLING CODE 4910-13-P